DEPARTMENT OF HEALTH AND HUMAN SERVICES

Administration for Children and Families

Submission for OMB Review; Child Care and Development Fund (CCDF) ACF-696T Financial Report (OMB #0970-0195)

AGENCY: Office of Child Care, Administration for Children and Families, HHS.

ACTION: Request for public comment.

SUMMARY: The Administration for Children and Families (ACF) is requesting a 3-year extension of the form ACF-696T: Child Care and Development Fund Annual Financial Report. This form is currently approved under the ACF Generic Clearance for Financial Reports (OMB #0970-0510; expiration May 31, 2021), and ACF is proposing to reinstate the previous OMB number under which this form had been approved. There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The ACF-696T Financial Report along with the instruction for completion of Form ACF-696T Financial Reporting Form for the Child Care and Development Fund (CCDF) are being submitted for renewal with no changes under a previous OMB number. The form collects CCDF financial expenditures data for the 221 Tribal Lead Agencies that receive CCDF funding. This report form is submitted annually by the referenced CCDF grant recipients. The form collects expenditures data for all respondents that receive CCDF funding.

Respondents: The 221 Tribal Lead Agencies that receive CCDF funding.

Annual Burden Estimates
Instrument | Annual number of respondents | Annual number of responses per respondent | Annual burden hours per response | Annual burden hours
Child Care and Development Fund ACF-696T Financial Report | 221 | 1 | 5 | 1105

Estimated Total Annual Burden Hours: 1105.

Authority: Section 658G(d), Pub. L. 113-186, 128 Stat. 1971.

Mary B. Jones,
ACF/OPRE Certifying Officer.

[FR Doc. 2021-05992 Filed 3-23-21; 8:45 am]

BILLING CODE 4184-43-P